DEPARTMENT OF TRANSPORTATION

Federal Aviation Administration

14 CFR Part 39

[Docket No. FAA-2012-0414; Directorate Identifier 2011-NM-210-AD; Amendment 39-17138; AD 2012-15-09]

RIN 2120-AA64

Airworthiness Directives; Airbus Airplanes

AGENCY: Federal Aviation Administration (FAA), Department of Transportation (DOT).

ACTION: Final rule.

SUMMARY: We are adopting a new airworthiness directive (AD) certain Airbus Model A310-203, -221, and -222 airplanes. This AD was prompted by the manufacturer re-classifying slat extension eccentric bolts as principal structural elements with replacement due at or before their calculated fatigue lives. This AD replaces certain slat extension eccentric bolts with new bolts. We are issuing this AD to prevent fatigue cracking, which could result in the loss of structural integrity of the airplane.

DATES: This AD becomes effective September 11, 2012.

The Director of the Federal Register approved the incorporation by reference of certain publications listed in this AD as of September 11, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on May 2, 2012 (77 FR 25930). That NPRM proposed to correct an unsafe condition for the specified products. The MCAI states:

Slat extension eccentric bolts have been re-classified as Principal Structural Elements (PSE). As a result, associated fatigue lives will be published in the Airbus A310 Airworthiness Limitations Section (ALS) Part 1 and bolts must be replaced at or before their calculated fatigue lives.

The slat extension eccentric bolt Part Number (P/N) A5786451220800 installed at slat 2, track 6 of the left hand (LH) and right hand (RH) wings is manufactured by SONACA, but some bolts with the same P/N, manufactured by FOKKER, may have been installed on A310-200 series aeroplanes and are identical in appearance. The calculated fatigue life of the FOKKER bolt is lower than that of the SONACA equivalent bolt.

The difference between the FOKKER and SONACA bolt cannot be distinguished by a visual inspection. To remedy this, the SONACA bolt part number was changed from P/N A5786451220800 to P/N A5784307920000.

Failure to replace the bolts within the new fatigue life limits constitutes an unsafe condition.

For the reasons described above, this [EASA] AD requires the replacement of all slat extension eccentric bolts, P/N A5786451220800, with slat extension eccentric bolts P/N A5784307920000 at the slat 2 tracks 4, 6 and 7 positions, as well as at the slat 3 track 8 position, on both LH and RH wings.

In addition, it is required to replace the slat extension eccentric bolt P/N A57843624200 at slat 2 track 5 with a bolt P/N A57843624202.

Required actions also include a concurrent inspection of the removed bolts for cracking. If cracking is found, certain bolts at slat 2 track 5 are replaced with new bolts before further flight. If cracking is not found, certain bolts at slat 2 track 5 are replaced with new bolts at 35,900 total flight cycles or 71,800 total flight hours, whichever occurs first. The unsafe condition is fatigue cracking, which could result in the loss of structural integrity of the airplane. You may obtain further information by examining the MCAI in the AD docket.

Comments

We gave the public the opportunity to participate in developing this AD. We received no comments on the NPRM (77 FR 25930, May 2, 2012) or on the determination of the cost to the public.

Conclusion

We reviewed the available data and determined that air safety and the public interest require adopting the AD as proposed.

Costs of Compliance

We estimate that this AD will affect 48 products of U.S. registry. We also estimate that it will take about 12 work-hours per product to comply with the basic requirements of this AD. The average labor rate is $85 per work-hour. Required parts will cost about $35,365 per product. Where the service information lists required parts costs that are covered under warranty, we have assumed that there will be no charge for these parts. As we do not control warranty coverage for affected parties, some parties may incur costs higher than estimated here. Based on these figures, we estimate the cost of this AD to the U.S. operators to be $1,746,480, or $36,385 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 25930, May 2, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-15-09 Airbus: Amendment 39-17138. Docket No. FAA-2012-0414; Directorate Identifier 2011-NM-210-AD.

(a) Effective Date

This airworthiness directive (AD) becomes effective September 11, 2012.

(b) Affected ADs

None.

(c) Applicability

This AD applies to Airbus Model A310-203, -221, and -222 airplanes; certificated in any category; all manufacturer serial numbers (MSN), except airplanes having MSN 0415, 0419, 0424, 0427, 0430, 0454, 0468, 0486, and 0487.

(d) Subject

Air Transport Association (ATA) of America Code 57, Wings.

(e) Reason

This AD was prompted by the manufacturer re-classifying slat extension eccentric bolts as principal structural elements (PSEs) with replacement due at or before their calculated fatigue lives. We are issuing this AD to prevent fatigue cracking, which could result in the loss of structural integrity of the airplane.

(f) Compliance

You are responsible for having the actions required by this AD performed within the compliance times specified, unless the actions have already been done.

(g) Bolt Replacement at Slat 2 Track 6 and Visual Inspection

(1) At the later of the times specified in paragraphs (g)(1)(i) and (g)(1)(ii) of this AD: Replace the slat extension eccentric bolts having part number (P/N) A5786451220800 at slat 2 track 6 on both wings with bolts having P/N A5784307920000, in accordance with the Accomplishment Instructions of Airbus Mandatory Service Bulletin A310-57-2043, Revision 05, dated September 29, 2010.

(i) Before the accumulation of 14,000 total flight cycles or 19,000 total flight hours, whichever occurs first.

(ii) Within 6 months after the effective date of this AD.

(2) Concurrently with the actions specified in paragraph (g)(1) of this AD: Do a general visual inspection of the removed slat extension eccentric bolts having P/N A5786451220800 to detect cracking, in accordance with the Accomplishment Instructions of Airbus Mandatory Service Bulletin A310-57-2043, Revision 05, dated September 29, 2010.

(i) If any cracking is found during the inspection required by paragraph (g)(2) of this AD: Before further flight, replace the slat extension eccentric bolt having P/N A57843624200 at slat 2 track 5, on the right or left wing as applicable, with a bolt having P/N A57843624202, in accordance with Accomplishment Instructions of Airbus Mandatory Service Bulletin A310-57-2099, dated July 22, 2011.

(ii) If no cracking is found during the inspection required by paragraph (g)(2) of this AD: Before the accumulation of 35,900 total flight cycles or 71,800 total flight hours, whichever occurs first, replace the slat extension eccentric bolt having P/N A57843624200 at slat 2 track 5, on the right or left wing as applicable, with a bolt having P/N A57843624202, in accordance with Accomplishment Instructions of Airbus Mandatory Service Bulletin A310-57-2099, dated July 22, 2011.

(h) Bolt Replacement at Slat 2 Track 4 and Track 7, and Slat 3 Track 8

Within 30 months after the effective date of this AD: Replace the slat extension eccentric bolts having P/N A5786451220800 at slat 2 track 4 and track 7, and slat 3 track 8, on both wings, with bolts having P/N A5784307920000, in accordance with the Accomplishment Instructions of Airbus Mandatory Service Bulletin A310-57-2098, dated July 22, 2011.

(i) Parts Installation Prohibition

After modification of an airplane as required by this AD, do not install any slat extension eccentric bolt having P/N A5786451220800 on any airplane.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2011-0187, dated September 27, 2011, and the following service information, for related information.

(1) Airbus Mandatory Service Bulletin A310-57-2043, Revision 05, dated September 29, 2010.

(2) Airbus Mandatory Service Bulletin A310-57-2098, dated July 22, 2011.

(3) Airbus Mandatory Service Bulletin A310-57-2099, dated July 22, 2011.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A310-57-2043, Revision 05, dated September 29, 2010.

(ii) Airbus Mandatory Service Bulletin A310-57-2098, dated July 22, 2011.

(iii) Airbus Mandatory Service Bulletin A310-57-2099, dated July 22, 2011.

(3) For Airbus service information identified in this AD, Airbus SAS-EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on July 20, 2012.
Kalene C. Yanamura,
Acting Manager, Transport Airplane Directorate, Aircraft Certification Service.

[FR Doc. 2012-18579 Filed 8-6-12; 8:45 am]

BILLING CODE 4910-13-P